DEPARTMENT OF TRANSPORTATION

Federal Motor Carrier Safety Administration

Global Positioning System (GPS) Technology Pilot Demonstration Project; Extension of Deadline for Submission of Applications

AGENCY: Federal Motor Carrier Safety Administration (FMCSA), DOT.

ACTION: Notice of extension of deadline for submission of applications to participate in pilot demonstration project.

SUMMARY: The FMCSA is extending the deadline for motor carriers to submit applications to participate in the agency's Global Positioning System (GPS) technology pilot demonstration project. This project allows qualified motor carriers that use GPS technology and related safety management computer systems to enter into an agreement with the FMCSA to use such systems to record and monitor drivers' hours-of-service, in lieu of requiring them to prepare handwritten records of duty status. This project is intended to demonstrate that the motor carrier industry can use this technology to improve compliance with the hours-of-service requirements in a manner which promotes safety and operational efficiency while reducing paperwork.

DATES: Applications must be received on or before December 29, 2000.

ADDRESSES: Written applications should be mailed to: GPS Technology Pilot Demonstration Project, Office of Bus and Truck Standards and Operations, Federal Motor Carrier Safety Administration, 400 Seventh Street, SW., Washington, D.C. 20590.

FOR FURTHER INFORMATION CONTACT: Mr. Neill L. Thomas, Office of Bus and Truck Standards and Operations, (202) 366-4009, Federal Motor Carrier Safety Administration, 400 Seventh Street, SW., Washington, D.C. 20590-0001, or Mr. Charles Medalen, Office of Chief Counsel (HCC-20), (202) 366-1354, Federal Highway Administration, 400 Seventh Street, SW., Washington, D.C. 20590-0001. Office hours are from 7:45 a.m. to 4:15 p.m., e.t., Monday through Friday, except Federal holidays. Application requests and specific questions regarding this pilot demonstration project may also be directed to the contact person(s) named in this notice or the Division Offices of the FMCSA in your State.

SUPPLEMENTARY INFORMATION:

Electronic Access

An electronic copy of this document may be downloaded by using a computer modem and suitable communications software from the Government Printing Office's Electronic Bulletin Board Service at (202) 512-1661. Internet users may reach the Office of the Federal Register home page at: http://www.nara.gov/fedregand the Government Printing Office's database at: http://www.access.gpo.gov/nara.

Creation of New Agency

On December 9, 1999, the President signed the Motor Carrier Safety Improvement Act of 1999 (Public Law 106-159, 113 Stat. 1748). The new statute established the FMCSA in the Department of Transportation. On January 4, 2000, the Office of the Secretary published a final rule rescinding the authority previously delegated to the Office of Motor Carrier Safety (OMCS) (65 FR 220). This authority is now delegated to the FMCSA.

The motor carrier functions of the OMCS's Resource Centers and Division (i.e., State) Offices have been transferred to FMCSA Resource Centers and FMCSA Division Offices, respectively. Rulemaking, enforcement and other activities of the Office of Motor Carrier Safety while part of the FHWA, and while operating independently of the FHWA, will be continued by the FMCSA. The redelegation will cause no changes in the motor carrier functions and operations previously handled by the FHWA or the OMCS. For the time being, all phone numbers and addresses are unchanged.

Background

On September 30, 1988, the FHWA published a final rule (53 FR 38666) to allow motor carriers to use certain automatic on-board devices to record their drivers' duty status in lieu of the handwritten records required by 49 CFR 395.8. This provision is now codified at 49 CFR 395.15. Many motor carriers employing this technology found that their compliance with the hours-of-service regulations improved. New technologies are emerging, however, and the current on-board recorder provision is becoming obsolete. Before considering changes to the rule, the agency determined that it would be prudent to demonstrate the effectiveness of more recent technology for ensuring compliance with the hours-of-service regulations.

On April 6, 1998 (63 FR 16697), the FHWA announced a pilot project that would allow motor carriers to use GPS technology and related computer programs to monitor compliance with the hours-of-service regulations. Drivers would be exempted from the requirement to maintain paper logs. Werner Enterprises, Inc., was the first carrier to enter into an agreement with the FHWA to use GPS technology for this purpose.

On July 13, 1999 (64 FR 37689), the FHWA extended the deadline for submission of applications to participate in the GPS technology pilot demonstration project. The agency indicated that it had received letters and telephone calls from various entities expressing interest in participating in the program and that two of these entities had acquired the software necessary to participate. The agency also indicated that other entities would soon have the hardware and software necessary. To date, however, Werner Enterprises, Inc. is the only carrier operating under an agreement with the agency to use GPS technology to monitor drivers' hours-of-service.

Reason for Extending the Application Deadline

The FMCSA believes GPS technology and many of the complementary safety management computer systems currently available to the motor carrier industry provide at least the same degree of monitoring accuracy as 49 CFR 395.15. The FMCSA also believes extending the application deadline to enable other motor carriers to participate will help to demonstrate that the use of technology to reduce paperwork and minimize recordkeeping burdens is consistent with highway safety.

The FMCSA continues to receive letters or telephone calls from motor carriers expressing interest in participating in the GPS pilot demonstration project. Many of these motor carriers are either considering modifications to their current GPS technology programs, or planning to have changes made to GPS technology being purchased, in order to meet the hardware and software requirements for participation in the pilot demonstration project. The FMCSA is extending the application deadline until December 29, 2000, to provide these motor carriers with an opportunity to participate in the pilot demonstration project once they have in place the hardware and software needed to satisfy the criteria for participation. Motor carriers that wish to participate in the pilot demonstration project must have GPS technology and complementary safety management computer systems which meet all of the conditions specified in the April 6, 1998, notice.

Authority: 49 U.S.C. 31136, and 31502; and 49 CFR 1.73.

Issued on: January 26, 2000.
Julie Anna Cirillo,
Acting Deputy Administrator.

[FR Doc. 00-2675 Filed 2-4-00; 8:45 am]

BILLING CODE 4010-22-P